ENVIRONMENTAL PROTECTION AGENCY

40 CFR Parts 51 and 52

[EPA-HQ-OAR-2003-0064, FRL-8763-1]

RIN 2060-AL75

Prevention of Significant Deterioration (PSD) and Nonattainment New Source Review (NSR): Debottlenecking

AGENCY: Environmental Protection Agency (EPA).

ACTION: Withdrawal of proposed rule.

SUMMARY: The EPA is withdrawing the proposed rule for “debottlenecking” published in the Federal Register on September 14, 2006. Debottlenecking is a concept used in the EPA's New Source Review (NSR) program and refers to how emissions from units upstream and downstream from the unit(s) undergoing a physical or operational change are included in the calculation of an emissions increase for the project. The intent of the September 14, 2006 proposal was to clarify how to consider emissions increases and decreases when determining major NSR applicability for sources that undergo a modification(s). Two other NSR elements included in that proposal—aggregation and project netting—are discussed in a separate document published in the “Rules” section of this Federal Register.

The decision to withdraw the rule proposal for debottlenecking is due to a variety of concerns raised by commenters on the viability of each of the proposed options. Regarding our preferred option, legal causation, we proposed to apply a “but for” legal cause test to account for debottlenecked emissions. However, limiting its application to only Prevention of Significant Deterioration and NSR permits, as several commenters suggested, would have severely narrowed its utility and required devising another regulatory strategy for nonqualifying permits. With respect to the other two proposed options, we had difficulty in finding workable solutions to some of the implementation issues raised by commenters. In light of the complexities we encountered with the proposed options, we have decided to withdraw the proposed rule for debottlenecking.

DATES: On January 15, 2009, the EPA hereby withdraws the proposed rule for NSR Debottlenecking published at 71 FR 54235.

FOR FURTHER INFORMATION CONTACT: Mr. David Svendsgaard, Air Quality Policy Division, Office of Air Quality Planning and Standards (C504-03), Environmental Protection Agency, Research Triangle Park, NC 27711, telephone number: (919) 541-2380; fax number: (919) 541-5509, e-mail address: svendsgaard.dave@epa.gov.

Dated: January 12, 2009.
Stephen L. Johnson,
Administrator.

[FR Doc. E9-816 Filed 1-14-09; 8:45 am]

BILLING CODE 6560-50-P